DEPARTMENT OF THE INTERIOR

Bureau of Land Management

[CO-100-1430-AF]

Temporary Travel Restrictions

AGENCY: Bureau of Land Management, Department of the Interior.

ACTION: Establishment of Temporary Travel Restrictions on Public Lands in Townships 7 and 8 North, Range 87 West, Routt County, Colorado.

SUMMARY: This order closes certain public lands managed by the Little Snake Field Office in Routt County, Colorado, to motorized vehicle use on a year round basis, and is effective immediately. This order modifies the existing use “open” to “designated roads and trails only” on approximately 722.42 acres. The restrictions will now include a limitation that prohibits the use of any motorized wheeled or tracked vehicles off designated roads and trails. This order is issued under the authority of 43 CFR 8341.2 and 43 CFR 8364.1(a) as a temporary measure while the off highway vehicle (OHV) portion of the Little Snake Resource Management Plan is reviewed and modified as needed to address public issues, concerns, and needs as well as resource uses, development, impacts, and protection.

EFFECTIVE DATE: October 2, 2000.

FOR FURTHER INFORMATION CONTACT: John E. Husband, Field Manager, Little Snake Field Office, 455 Emerson Street, Craig, Colorado 81625-1129, Telephone (970) 826-5000.

SUPPLEMENTARY INFORMATION: This order affects public lands in Routt County, Colorado thus described:

Public Lands within:

T. 7N., R. 87W., section 3, lots 3 and 4,

T. 7N., R. 87W., section 4, lots 1 and 2,

T. 8N., R. 87W., section 28, E½ SE¼,

T. 8N., R. 87W., section 33, SE¼ and,

T. 8N., R. 87W., section 34, N½.

This restriction shall be effective October 2, 2000, and shall remain in effect until rescinded or modified by the Authorized Officer.

Previously this area was designated “open” to OHV use on public lands in the Little Snake Resource Management Plan, 1989. These Public Lands are being closed on a year-round basis, effective immediately, except on designated roads and trails, to protect vegetation, soils, watershed, wildlife values, and to minimize conflicts among various uses of the Public Lands. This order is issued under the authority of 43 CFR 8341.2 and 43 CFR 8364.1(a) as a temporary measure while the off highway vehicle (OHV) portion of the Little Snake Resource Management Plan is reviewed and modified. Designated roads and trails affected by this order will be posted with appropriate regulatory signs. Maps will be available at the Little Snake Field Office, 455 Emerson Street, Craig, CO 81625-1129.

Exemptions from this order include:

1. Any Federal , State, or local officers or agencies engaged in fire suppression, emergency, or official law enforcement activities.

2. Bureau of Land Management employees engaged in official duties.

3. Persons or agencies holding a special use permit or right-of-way which specifically allows for access to the area for maintenance and operation of said authorized facilities, provided such motorized use is limited to the routes specifically identified in the special use permit or right-of-way.

4. Designated county roads, or rights-of-way associated with designated county roads.

5. Grazing permittee(s) during the permitted grazing season on existing roads and trails, where such use is necessary to the conduct of grazing operations, with the exception described below. Grazing permittee in emergency situations, such as sick or injured animals, to recover the animal(s) throughout the public lands described in this designation, with as little disturbance to the area as possible. The grazing permittee must notify the Authorized Officer by telephone and in writing within 5 days of such actions describing the location and reason for such action. Exception to Use by Permittee: No use of motorized vehicles, except on public and designated roads, will be allowed for patrolling of the area as related to hunting use before, during, or after hunting seasons, or for conduct of hunting or outfitting by the permittee, whether such use is in conjunction with livestock grazing operations or not.

Penalties: Violations of this designation order are punishable by fines not to exceed $1,000 and/or imprisonment not to exceed 12 months.

Dated: September 15, 2000.
John E. Husband,
Field Manager.

[FR Doc. 00-24251 Filed 9-29-00; 8:45 am]

BILLING CODE 4310-JB-P